DEPARTMENT OF JUSTICE

Notice of Lodging of Consent Decree Under the Clean Air Act

Notice is hereby given that on May 17, 2007, a proposed Consent Decree in United States v. Kerr-McGee Corporation, Civil Action No. 07-CV-01034-WDM-MJW as lodged with the United States District Court for the District of Colorado.

The Consent Decree resolves claims by the United States against Kerr-McGee Corporation (“Kerr-McGee”) under section 113 of the Clean Air Act, 42 U.S.C. 7413 at Kerr-McGee's Cottonwood Wash, Ouray, and Bridge compressor stations located on tribal lands in the Uinta Basin and in the Denver-Julesburg Basin in Weld County, Colorado. The Consent Decree will require Kerr-McGeee to install low emission dehydrators, enclose flares on certain condensate storage tanks and replace pneumatic controllers with “low bleed” components and also install either catalytic controls on large engines or replace old engines with newer, lower emitting units. The decree establishes federally enforceable limits on the compressor stations to restrict the sources' potential to emit, keeping it below the Clean Air Act's major source threshold until EPA finalizes a Synthetic Minor Source Permitting Program in Indian Country. The decree also requires Kerr-McGee to pay a civil penalty of $150,000 to the United States and $50,000 to the State of Colorado and perform supplemental environmental projects valued at $250,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Kerr-McGee Corporation, D.J. Ref 90-5-2-1-08656.

The Consent Decree may be examined at the Office of the United States Attorney, 1225 Seventeenth Street, Suite 700, Denver, Colorado 80202, and at U.S. EPA Region 8, 1595 Wynkoop Street, Denver, CO 80202. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (toniafleetwood@usdoj.gov, fax no. (202) 514-0097, phone confirmation number (202) 514-1547. In requesting a copy of the entire Consent Decree with exhibits from the Consent Decree Library, please enclose a check in the amount of $44.75 (25 cents per page reproduction costs) payable to the U.S. Treasury or, if by e-mail or fax, forward a check in that amount to the Consent Decree Library at the stated address. In requesting a copy of the decree exclusive of exhibits, please enclose a check in the amount of $20.50 (25 cents per page reproduction cost) payable to the U.S. Treasury.

Robert D. Brook,
Assistant Chief, Environmental Enforcement Section, Environment and Natural Resources Division.

[FR Doc. 07-2701 Filed 5-31-07; 8:45 am]

BILLING CODE 4410-15-M